DEPARTMENT OF THE INTERIOR

Bureau of Land Management

[CO-130-03-1220-DU]

Notice of Intent To Amend the Grand Junction Resource Management Plan for the North Fruita Desert Area

AGENCY: Bureau of Land Management, Interior.

ACTION: Notice of intent to amend the Grand Junction Resource Management Plan for the North Fruita Desert Area.

SUMMARY: Pursuant to section 102 of the National Environmental Policy Act of 1969 and section 202 of the Federal Land Policy and Management Act of 1976, the Bureau of Land Management, Grand Junction Field Office, is proposing to amend the Grand Junction Resource Management Plan (1987) to develop and design a travel system for the North Fruita Desert Area. The planning area includes 72,656 acres of public land located in Mesa County north of the town of Fruita, Colorado. The North Fruita Desert planning process was initiated in August 2000 and an ad hoc public committee was chartered under the Northwest Colorado Resource Advisory Committee to help provide feedback to BLM staff. It was originally thought that desired management actions identified in the planning process could be carried out on an activity-level plan within the existing guidance of the Grand Junction Resource Management Plan (RMP). However, it has since been determined that a plan amendment would be needed to consider the input of the ad hoc public committee and to alter RMP allocations.

DATES: This notice initiates the public scoping process. The public is invited to submit comments throughout the development of the Draft Amendment/EA. All future public meetings will be announced through the local news media, newsletters, and other media at least 15 days prior to the event. In addition to the ongoing public participation process, formal opportunities for public participation will be provided through comment upon the issuance of the BLM Draft Amendment/EA.

ADDRESSES: Written comments should be sent to Bureau of Land Management, Grand Junction Field Office, 2815 H Road, Grand Junction, CO, 81506. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Philip Gezon, Supervisory Outdoor Recreation Planner, Grand Junction Field Office, 2815 H Road, Grand Junction, CO 81506; (970) 244-3031; pgezon@blm.gov.

SUPPLEMENTARY INFORMATION: The Grand Junction Field Office has and will continue to consult, communicate and cooperate with local landowners, recreationists, the Northwest Colorado Resource Advisory Committee, the ad hoc committee, the city of Fruita, and other affected interest groups and individuals to develop and design a travel system for the North Fruita Desert Area. BLM will use an interdisciplinary approach to develop the plan amendment and environmental assessment in order to consider all identified resource issues and concerns. Disciplines involved in the planning process will include specialists with expertise in outdoor recreation, transportation planning, range conservation, wildlife, fisheries, law enforcement, oil and gas, geology, geology, soils and hazardous materials.

Dated: May 6, 2003.
Catherine Robertson,
Field Manager.

[FR Doc. 03-15051 Filed 6-13-03; 8:45 am]

BILLING CODE 4310-JB-P